DEPARTMENT OF HEALTH AND HUMAN SERVICES

National Institutes of Health

Submission for OMB Review; 30-Day Comment Request; Generic Clearance for Application Information for Fellowships, Internships, Training Programs, and Specialty Positions, National Cancer Institute (NCI)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To obtain a copy of the data collection plans and instruments, submit comments in writing, or request more information on the proposed project, contact: Diane Kreinbrink, Office of Management Policy and Compliance, National Cancer Institute, 9609 Medical Center Drive, Rockville, Maryland 20892 or call non-toll-free number (240) 276-7283 or email your request, including your address to: diane.kreinbrink@nih.gov. Formal requests for additional plans and instruments must be requested in writing.

SUPPLEMENTARY INFORMATION: This proposed information collection was previously published in the Federal Register on March 17, 2022 (Vol. 87, No. 52, Page 15257) and allowed 60 days for public comment. No public comments were received. The purpose of this notice is to allow an additional 30 days for public comment. The National Cancer Institute (NCI), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Generic Clearance for Application Information from Fellows, Interns, and Trainees, 0925-0761, Exp., Date 07/31/2022, EXTENSION, National Cancer Institute (NCI), National Institutes of Health (NIH).

Need and Use of Information Collection: This generic information collection request is to support the science and research in a multidisciplinary environment at the National Cancer Institute (NCI), a part of the National Institutes of Health. Applicants may possess a variety of degrees including, but not limited to, high school, post-baccalaureate, graduate, postdoctoral, Registered Nurse, and Doctor of Medicine (MD). Potential applicants may apply for cancer-related positions by submitting applications, resumes, curriculum vitae (CV), reference letters, letters of intent and interest, and other related documentation directly to the Divisions, Offices, and Centers. This information is necessary to evaluate the eligibility, merits, and quality of potential candidates and will also assist in matching potential candidates to various training and internship programs, and specialty positions. The information is for internal use to make decisions about candidates invited to visit and attend NCI fellowships, internships, training opportunities, and apply for specialized staff and faculty positions.

OMB approval is requested for 3 years. There are no costs to respondents other than their time. The total estimated annualized burden is 7,500 hours.

Estimated Annualized Burden Hours
Type of respondent | Number of respondents | Number of responses per respondent | Average time per response (in hours) | Total annual burden hours
Individuals (Applicants) | 3,000 | 1 | 60/60 | 3,000
Individuals (Professional References) | 9,000 | 1 | 30/60 | 4,500
Totals |  | 12,000 |  | 7,500

Dated: May 24, 2022.
Diane Kreinbrink,
Project Clearance Liaison, National Cancer Institute, National Institutes of Health.

[FR Doc. 2022-11506 Filed 5-27-22; 8:45 am]

BILLING CODE 4140-01-P